DEPARTMENT OF THE INTERIOR

Fish and Wildlife Service

[Docket No. FWS-R4-ES-2025-1067; FXES11140400000-256-FF04EF4000]

Receipt of Incidental Take Permit Application and Proposed Habitat Conservation Plan for the Sand Skink and Blue-Tailed Mole Skink; Osceola County, FL; Categorical Exclusion

AGENCY: Fish and Wildlife Service, Interior.

ACTION: Notice of availability; request for comments.

SUMMARY: We, the Fish and Wildlife Service (Service), announce receipt of an application from Osceola County (Westside Technology Park) (applicant) for an incidental take permit (ITP) under the Endangered Species Act. The applicant requests the ITP to take the federally listed sand skink and blue-tailed mole skink incidental to the construction of a County park in Osceola County, Florida. We request public comment on the application, which includes the applicant's proposed habitat conservation plan (HCP), and on the Service's preliminary determination that the proposed permitting action may be eligible for a categorical exclusion pursuant to the National Environmental Policy Act (NEPA), the Department of the Interior's (DOI) NEPA regulations, and the DOI Departmental Manual (DM). To make this preliminary determination, we prepared a draft screening form and NEPA statement for HCPs, which is available for public review. We invite comment from the public and local, State, Tribal, and Federal agencies.

DATES: We must receive your written comments on or before January 22, 2026.

ADDRESSES:

Obtaining Documents: The documents related to this notice, as well as any comments and other materials that we receive, will be available for public inspection online in Docket No. FWS-R4-ES-2025-1067 at https://www.regulations.gov.

Submitting Comments: If you wish to submit comments on any of the documents, you may do so in writing by one of the following methods:

• Online: https://www.regulations.gov. Follow the instructions for submitting comments on Docket No. FWS-R4-ES-2025-1067;

• U.S. Mail: Public Comments Processing, Attn: Docket No. FWS-R4-ES-2025-1067; U.S. Fish and Wildlife Service, MS: PRB/3W, 5275 Leesburg Pike, Falls Church, VA 22041-3803.

FOR FURTHER INFORMATION CONTACT: Samantha Hermann, by U.S. mail (see ADDRESSES), by telephone at 850-347-2671 or via email at Samantha_Hermann@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Service, announce receipt of an application from Osceola County (Westside Technology Park) (applicant) for an ITP, also known as a section 10(a)(1)(B) permit, under the Endangered Species Act of 1973, as amended (ESA; 16 U.S.C. 1531 et seq.). The applicant requests the ITP to take federally listed sand skinks (Neopseps (=Plestiodon) reynoldsi) and blue-tailed mole skinks (Eumeces egregius lividus) (skinks) incidental to the construction and operation of a County park in Osceola County, Florida.

We request public comment on the application, which includes the applicant's HCP, and on the Service's preliminary determination that this proposed ITP may qualify for a categorical exclusion pursuant to NEPA (42 U.S.C. 4321 et seq.), DOI's NEPA regulations (43 CFR 46), and DOI's DM (516 DM 8.5(C)(2)). To make this preliminary determination, we prepared a draft screening form and NEPA statement for HCPs, which is available for public review.

Proposed Project

The applicant requests a 5-year ITP to take skinks via the conversion of approximately 0.47 acres (ac) of occupied nesting, foraging, and sheltering skink habitat incidental to the construction and operation of Westside Technology Park on 40 acs, Parcel #07-25-27-000000-200000 in Section 07, Township 25 South, Range 27 East, Osceola County, Florida.

The applicant proposes to mitigate for take of the skinks by purchasing credits equivalent to 0.94 ac of skink-occupied habitat within a Service-approved conservation bank. The Service would require the applicant to purchase the credits no later than 30 days after the issuance of the permit and prior to any clearing activities. The applicant will provide educational opportunities through signage and QR codes that will focus on native plants and wildlife including the sand and blue-tailed mole skinks and their habitat.

Our Preliminary Determination

The Service has made a preliminary determination that reasonably foreseeable effects of the applicant's proposed project, including the construction of the county park and associated clearing, would have a minor effect on the skinks and the human environment and that no extraordinary circumstances in 43 CFR 46.215 apply. Reasonably foreseeable effects encompass effects of implementation of the action including effects of the action in addition to other past, present, and reasonably foreseeable future effects.

Therefore, we have preliminarily determined that the proposed ESA section 10(a)(1)(B) permit would be a low-effect ITP that may qualify for application of a categorical exclusion (516 DM 8.5(C)(2)), pursuant to NEPA and DOI's NEPA regulations and DM. A low-effect ITP is one that would result in (1) negligible or minor individual or cumulative effects on species covered in the HCP; (2) no significant effect on the human environment; and (3) reasonably foreseeable effects that would not result in significant effects to the human environment.

Next Steps

The Service will evaluate the application and the comments to determine whether to issue the requested ITP. We will also conduct an intra-Service consultation pursuant to section 7 of the ESA to evaluate the effects of the proposed take. After considering the preceding and other matters, we will determine whether the permit issuance criteria of section 10(a)(1)(B) of the ESA have been met. If met, the Service will issue ITP number PER 21116185 to Osceola County.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so.

Moreover, all submissions from organizations or businesses, and from individuals identifying themselves as representatives or officials of organizations or businesses, will be made available for public disclosure in their entirety.

Authority

The Service provides this notice under ESA section 10(c) (16 U.S.C. 1531 et seq.) and its implementing regulations (50 CFR 17.32) and under NEPA (42 U.S.C. 4321 et seq.) and DOI's implementing regulations (43 CFR part 46).

Jose Rivera,
Field Supervisor, Division of Environmental Review, Florida Ecological Services Field Office.

[FR Doc. 2025-23647 Filed 12-22-25; 8:45 am]

BILLING CODE 4333-15-P